DEPARTMENT OF TRANSPORTATION

National Highway Traffic Safety Administration

[Docket No. NHTSA-2019-0104]

Denial of Motor Vehicle Defect Petition

AGENCY: National Highway Traffic Safety Administration (NHTSA), Department of Transportation.

ACTION: Denial of petition for a defect investigation.

SUMMARY: This notice sets forth the reasons for the denial of a petition submitted on May 9, 2018, by Mr. J. Kevin Byrne (the petitioner) to NHTSA's Office of Defects Investigation (ODI). The petition requests that the Agency “undertake a defects investigation” into “rust-related fuel tank detachment of Isuzu Rodeo fuel tanks.” The petitioner bases his request upon a partial fuel tank detachment he experienced on his vehicle, a model year (MY) 2004 Isuzu Rodeo, and another complaint he found in NHTSA's online complaint database involving a MY 2001 Isuzu Rodeo. The petitioner also asserts that the partial fuel tank detachment is covered by NHTSA Recall Number 13V-547.

On May 23, 2018, ODI opened Defect Petition (DP) 18-001 to evaluate the petitioner's concerns. After reviewing the information provided by the petitioner and field data regarding fuel tank detachment in MY 2001 through 2004 Isuzu Rodeos and similarly equipped vehicles, NHTSA has concluded that the issues raised by the petition do not warrant a defect investigation. Accordingly, the Agency has denied the petition.

FOR FURTHER INFORMATION CONTACT: Mr. Matthew Martens, Vehicle Defects Division-D, Office of Defects Investigation, NHTSA, 1200 New Jersey Avenue SE, Washington, DC 20590.

SUPPLEMENTARY INFORMATION:

Introduction

Pursuant to 49 CFR 552.1, interested persons may petition NHTSA requesting that the Agency initiate an investigation to determine whether a motor vehicle or an item of replacement motor vehicle equipment fails to comply with applicable motor vehicle safety standards or contains a defect that relates to motor vehicle safety. Upon receipt of a properly filed petition, the Agency conducts a technical review (§ 552.6) of the petition, material submitted with the petition, and any appropriate additional information. After considering the technical review and taking into account appropriate factors, the Agency will grant or deny the petition (§ 552.8).

Overview of the Petition

On April 10, 2018, the petitioner submitted a petition to NHTSA requesting that the Agency “undertake a defects investigation” of “rust-related detachment of Isuzu Rodeo fuel tanks” (NHTSA ID 11091788). The petitioner alleged that the fuel tank on his MY 2004 Isuzu Rodeo partially detached from his vehicle due to corrosion of the parts that attached the fuel tank to his vehicle, namely the metal bracket-straps, bolts, and a horizontal jacket. Furthermore, the petitioner asserted that the partial fuel tank detachment on his vehicle should be covered by NHTSA Recall Number 13V-547. Finally, the petitioner cited a complaint about a MY 2001 Isuzu Rodeo found in NHTSA's complaint database under NHTSA ID 10992150, which the petitioner asserted “points to a history of rust-related detachment of Isuzu Rodeo fuel tanks.” The petition followed a letter that the petitioner had previously sent to the Agency on April 10, 2018, which expressed concern about repairs that the petitioner had to complete on his vehicle and the cost of those repairs.

ODI's Analysis of the Defect Petition

On May 23, 2018, ODI opened DP18-001 to evaluate the petitioner's request for a defect investigation. ODI considers vehicle age, environment, detectability, and severity when assessing whether complaints alleging corrosion-related failures indicate a potential defect trend. Failures that occur later in a vehicle's life, or display evidence of severe general corrosion to underbody components, are usually indicative of expected wear-and-tear from exposure to highly corrosive environments for an extended period, or may result from improper care and maintenance. While every vehicle has the potential to experience corrosion in its lifetime, failures that develop earlier in a vehicle's life or vehicles that display evidence of localized corrosion damage to specific safety-critical components are more likely to indicate potential defects related to corrosion protection or moisture retention, which may indicate that further investigation is appropriate. However, although a manufacturing or design defect may contribute to premature corrosion-related failures to vehicle underbody components, a severe operating environment or improper care and maintenance can also cause such failures. Annual inspections, monthly cleaning, and detecting and repairing problems early can help to prevent such problems or lessen their impact.

The petitioner purchased the subject 2004 Isuzu Rodeo, as a used vehicle, in August 2013. At that time, the vehicle had been in service for approximately nine years and had been driven approximately 122,000 miles. The vehicle has been registered in the Saint Paul, Minnesota, metropolitan area, a region with high winter road salt use, for almost all its service life. When the petitioner's mechanic completed the fuel tank retention repairs on the petitioner's vehicle in July 2017, the vehicle had been in service for approximately 13 years and driven roughly 155,000 miles.

While the petitioner noted that his vehicle is covered by NHTSA Recall Number 13V-547, that recall, which was initiated by Isuzu in October 2013, is distinct from the partial fuel tank detachment that the petitioner's vehicle experienced. Recall Number 13V-547 addresses a rear suspension link bracket defect in certain MY 2003 and 2004 Isuzu Rodeo and Axiom vehicles, and MY 2003 Isuzu Rodeo Sport vehicles, which were originally sold or registered in certain states, including Minnesota, that have high winter road salt usage. While Recall Number 13V-547 addresses a defect of the rear suspension link bracket, which can affect the vehicle's handling and control, the petitioner's partial fuel tank detachment, according to the available information, appears to have been caused by corrosion of parts that attach the fuel tank to the vehicle. In any event, those parts that attach the petitioner's fuel tank to his vehicle are not covered by Recall Number 13V-547.

After reviewing the concerns raised in the petition, ODI did not find evidence of a defect trend during its evaluation of DP18-001. ODI's evaluation included all MY 2001 through 2004 Isuzu Rodeo, MY 2002 through 2004 Isuzu Axiom, and MY 2001 through 2002 Honda Passport vehicles (hereinafter “the subject vehicles”) equipped with the same fuel tank and tank retention shield part numbers as the petitioner's vehicle. Design change information provided by Isuzu indicates that the fuel tank retention shield used to secure the tank to the vehicle was modified in 2001 to improve the corrosion resistance of the part. The modification was implemented as a running change in early MY 2002 production. Aside from the petitioner's vehicle, ODI has not identified any other incidents of complete or partial fuel tank detachment in the subject vehicles equipped with the modified retention shield.

Similarly, ODI did not find evidence of a defect trend in vehicles that are not equipped with the modified retention shield. ODI identified eighteen (18) complaints alleging complete or partial detachment in the subject vehicles produced before the tank shield modification. Analysis of these complaints found that they occurred in older vehicles that were driven in states with high winter road salt usage (i.e., roads with a corrosive environment). ODI also noted evidence of severe general underbody corrosion in complaints that included photographs of the fuel tank detachment. Five (5) of the detachment complaints included narratives indicating that the detachment was severe enough that tank contact with the ground may have occurred. None of the incidents resulted in any reported fuel leakage or fire in any of the subject vehicles analyzed as part of this petition evaluation.

Conclusion

After a review of the available data, ODI has not identified evidence of a defect trend for corrosion-related fuel tank detachments in the MY 2004 Isuzu Rodeo or similarly equipped vehicles. The damage that may result in tank retention concerns appears to occur progressively over many years with ample opportunity for detection and repair. Furthermore, ODI has not identified any crashes, fires, injuries, or fuel leaks associated with fuel tank retention failures in a population of vehicles that currently ranges from 16 to 19 years old. In addition, the partial fuel tank detachment that the petitioner experienced is not within the scope of NHTSA Recall Number 13V-547.

Accordingly, the Agency is denying the petition. A summary of ODI's analysis of this petition will be published in the Federal Register and is also available in the investigative file for this action.

Authority: 49 U.S.C. 30162(d); delegations of authority at CFR 1.50 and 501.8.

Jeffrey Mark Giuseppe,
Associate Administrator for Enforcement.

[FR Doc. 2020-04384 Filed 3-3-20; 8:45 am]

BILLING CODE 4910-59-P